DEPARTMENT OF DEFENSE

Office of the Secretary

[Transmittal No. 24-68]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-68, Policy Justification.

Dated: November 14, 2025.
Aaron T. Siegel,
Alternate OSD Federal Register Liaison Officer, Department of Defense.

BILLING CODE 6001-FR-P

BILLING CODE 6001-FR-C

Transmittal No. 24-68

Notice of Proposed Issuance of Letter of Offer Pursuant to Section 36(b)(1) of the Arms Export Control Act, as amended

(i) Prospective Purchaser: Government of Australia

(ii) Total Estimated Value:

Major Defense Equipment * | $ 0 million
Other | $300 million
TOTAL | $300 million

(iii) Description and Quantity or Quantities of Articles or Services under Consideration for Purchase:

Major Defense Equipment (MDE):

None

Non-Major Defense Equipment:

The following non-MDE items will be included: AH-64E Apache sustainment support services; U.S. Government and contractor engineering, technical, and logistics support services; technical data and publications; personnel training; and other related elements of logistics, and program support.

(iv) Military Department: Army (AT-B-UMW)

(v) Prior Related Cases, if any: AT-B-ULV

(vi) Sales Commission, Fee, etc., Paid, Offered, or Agreed to be Paid: None known at this time

(vii) Sensitivity of Technology Contained in the Defense Article or Defense Services Proposed to be Sold: None

(viii) Date Report Delivered to Congress: August 23, 2024

* As defined in Section 47(6) of the Arms Export Control Act.

POLICY JUSTIFICATION

Australia—AH-64E Apache Sustainment Support Services

The Government of Australia has requested to buy AH-64E Apache sustainment support services, including U.S. Government and contractor engineering, technical, and logistics support services; technical data and publications; personnel training; and other related elements of logistics, and program support. The estimated total cost is $300 million.

This proposed sale will support the foreign policy and national security objectives of the United States. Australia is one of our most important allies. The strategic location of this political and economic power contributes significantly to ensuring peace and economic stability in the Western Pacific. It is vital to the U.S. national interest to assist our ally in developing and maintaining a strong and ready self-defense capability.

The proposed sale will improve Australia's capability to meet current and future threats by providing the necessary sustainment support to successfully employ its AH-64E Apache helicopters. It will also improve Australia's capability to support coalition operations and contribute to mutual security goals in the region. Australia will have no difficulty absorbing this equipment and services into its armed forces.

The proposed sale of this equipment and support will not alter the basic military balance in the region.

The principal contractors will be The Boeing Company, located in Mesa, AZ, and Lockheed Martin, located in Orlando, FL. There are no known offset agreements proposed in connection with this potential sale.

Implementation of this proposed sale will require the assignment of up to four U.S. Government and contractor representatives to Australia for a duration of up to five years to support sustainment of the AH-64E Apache.

There will be no adverse impact on U.S. defense readiness as a result of this proposed sale.

[FR Doc. 2025-20145 Filed 11-17-25; 8:45 am]

BILLING CODE 6001-FR-P